DEPARTMENT OF THE TREASURY

Submission for OMB Review; Comment Request

February 18, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 29, 2000 to be assured of consideration.

INTERNAL REVENUE SERVICE (IRS)

OMB Number: 1545-1523.

Notice Number: Notice 97-12.

Type of Review: Extension.

Title: Electing Small Business Trusts.

Description: This notice provides the time and manner for making the Electing Small Business Trust election pursuant to section 1361(e)(3).

Respondents: Business or other for-profit.

Estimated Number of Respondents: 5,000.

Estimated Burden Hours Per Respondent: 1 hour.

Frequency of Response: Other (once).

Estimated Total Reporting Burden: 5,000 hours.

OMB Number: 1545-1536.

Regulation Project Number: REG-209823-96 (Final).

Type of Review: Extension.

Title: Guidance Regarding Charitable Remainder Trusts and Special Valuation Rules for Transfers of Interests in Trusts.

Description: The recordkeeping requirement in the regulation provides taxpayers with an alternative method for complying with Congressional intent regarding charitable remainder trusts. The recordkeeping alternative may be less burdensome for taxpayers.

Respondents: Business or other for-profit.

Estimated Number of Recordkeepers: 150.

Estimated Burden Hours Per Recordkeeper: 30 minutes.

Estimated Total Recordkeeping Burden: 75 hours.

Clearance Officer: Garrick Shea, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 00-4603 Filed 2-25-00; 8:45 am]

BILLING CODE 4830-01-U